DEPARTMENT OF COMMERCE

National Oceanic and Atmospheric Administration

RIN 0648-XS42

South Atlantic Fishery Management Council; Public Meetings

AGENCY: National Marine Fisheries Service (NMFS), National Oceanic and Atmospheric Administration, Commerce.

ACTION: Notice of Scoping Meetings.

SUMMARY: The South Atlantic Fishery Management Council (Council) will hold a series of public hearings regarding Amendments 17A, 17B and 18 to the Snapper Grouper Fishery Management Plan (FMP) for the South Atlantic. See SUPPLEMENTARY INFORMATION.

DATES: The series of 7 public hearings will be held November 2, 2009 through November 16, 2009. With the exception of the hearing held in Virginia, all hearings will be open from 3 p.m. until 7 p.m.. The public hearing scheduled for November 16, 2009, in Newport News, VA, will be held at 6 p.m.. Members of the public will have an opportunity to go on record at any time during the meeting hours to record their comments on the public hearing topics for Council consideration. Written comments will be received in the South Atlantic Council's office (see ADDRESSES) from October 19, 2009 until 5 p.m. on November 25, 2009.

ADDRESSES: See SUPPLEMENTARY INFORMATION for specific addresses of hearing locations. Written comments should be sent to Bob Mahood, Executive Director, South Atlantic Fishery Management Council, 4055 Faber Place Drive, Suite 201, North Charleston, SC 29405, or via email to: For Amendment 17A SGAmend17APH@safmc.net; for Amendment 17B SGAmend17BPH@safmc.net; and for Amendment 18 SGAmend18PH@safmc.net.

Written comments must be received in the South Atlantic Council's office by 5 p.m. on November 25, 2009.

Copies of the public hearing documents are available from Kim Iverson, Public Information Officer, South Atlantic Fishery Management Council, 4055 Faber Place Drive, Suite 201, North Charleston, SC 29405; telephone: (843) 571-4366 or toll free at (866) SAFMC-10. Copies will also be available online at www.safmc.net as they become available.

FOR FURTHER INFORMATION CONTACT: Kim Iverson, South Atlantic Fishery Management Council, 4055 Faber Place Drive, Suite 201, North Charleston, SC 29405; telephone: (843) 571-4366; fax: (843) 769-4520; email address: kim.iverson@safmc.net.

SUPPLEMENTARY INFORMATION: Amendment 17A to the Snapper Grouper FMP contains the following management actions: (1) establish Annual Catch Limits (ACLs) and Accountability Measures (AMs) for red snapper with management measures to reduce the probability that catches will exceed the stock's ACL; (2) specify stock status determination criteria for red snapper; (3) Specify a stock rebuilding plan for red snapper; and 4) specify a monitoring program for red snapper. The South Atlantic red snapper stock is currently undergoing overfishing and is overfished. The Council is considering long-term management alternatives to end overfishing and rebuild the stock that include a closure of the red snapper fishery, area closures that would prohibit the harvest of all species in the snapper grouper management complex in order to address bycatch of red snapper, establishment of a permitted fishing zone with sector specific allocations, and various red snapper monitoring programs that include both fishery dependent and fishery independent alternatives.

The public hearings will also address Amendment 17B to the Snapper Grouper FMP. The amendment establishes ACLs and AMs as needed for nine other species currently listed as undergoing overfishing; golden tilefish, snowy grouper, speckled hind, warsaw grouper, black grouper, black sea bass, gag, red grouper, and vermilion snapper. The amendment includes management measures to reduce the probability that catches will exceed the stock's ACL pursuant to the reauthorized Magnuson-Stevens Fishery Conservation and Management Act. The amendment specifies allocations for golden tilefish and updates the framework procedure for specification of Total Allowable Catch (TAC). Management alternatives include a proposed deepwater closure for the South Atlantic Exclusive Economic Zone (EEZ) seaward of 240 feet. The deepwater closure would prohibit fishing for deepwater species as outlined in the amendment.

Amendment 18 to the Snapper Grouper Fishery Management Plan will also be addressed at the public hearings. Actions proposed in Amendment 18 include: extension of the range of the Snapper Grouper Fishery Management Plan northward (except for black sea bass, scup, and golden tilefish which are considered separate stocks and covered by Mid-Atlantic Council fishery management plans), limits on participation and effort in the golden tilefish fishery, modifications to management of the black sea bass pot fishery, separate snowy grouper quote into regions/states, separate the gag recreational allocation into regions/states, change the golden tilefish fishing year, improvements to the accuracy, timing, and quantity of fisheries statistics, and designation of Essential Fish Habitat (EFH).

Note: The public hearing scheduled for November 16, 2009, in Newport News, VA, will address only management alternatives appropriate to areas north of the Council's area of jurisdiction as contained in Amendment 17B and Amendment 18 to the Snapper Grouper FMP.

A complete listing of all management alternatives under consideration by the Council is included in the Public Hearing document for each amendment.

Meeting Dates and Locations:

The scoping meetings will be held at the following locations:

1. November 2, 2009 - Hilton Garden Inn, 5265 International Blvd., North Charleston, SC 29418, telephone: (843) 308-9330;

2. November 3, 2009 - Hilton New Bern Riverfront, 100 Middle Street, New Bern, NC 28562, telephone: (252) 638-3585;

3. November 5, 2009 - Mighty Eighth Air Force Museum, 175 Bourne Avenue, Pooler, GA 31322, telephone: (912) 748-8888;

4. November 10, 2009 - Key Largo Grande, 97000 South Overseas Highway, Key Largo, FL 33037, telephone: (305) 852-5553;

5. November 11, 2009 - Radisson Resort at the Port, 8701 Astronaut Boulevard, Cape Canaveral, FL 32920, telephone: (321) 784-0000;

6. November 12, 2009 - Crowne Plaza Jacksonville Riverfront, 1201 Riverplace Boulevard, Jacksonville, FL 32207, telephone: (904) 396-8800; and

7. November 16, 2009 - Virginia Marine Resources Commission, 2600 Washington Avenue, 3rd Floor, Newport News, VA 23607, telephone: (757) 247-2200.

Special Accommodations

These meetings are physically accessible to people with disabilities. Requests for sign language interpretation or other auxiliary aids should be directed to the Council office (see ADDRESSES) 3 days prior to the start of each hearing.

Dated: October 13, 2009.
Tracey L. Thompson,
Acting Director, Office of Sustainable Fisheries, National Marine Fisheries Service.

[FR Doc. E9-24939 Filed 10-15-09; 8:45 am]

BILLING CODE 3510-22-S